DEPARTMENT OF ENERGY

Federal Energy Regulatory Commission

[Docket No. EC04-36-000, et al.]

Sunbury Generation, LLC, et al.; Electric Rate and Corporate Filings

December 11, 2003.

The following filings have been made with the Commission. The filings are listed in ascending order within each docket classification.

1. Sunbury Generation, LLC, and Duquesne Power, L.P.

[Docket No. EC04-36-000]

Take notice that on December 8, 2003, Sunbury Generation, LLC (Sunbury) and Duquesne Power, L.P. (Duquesne) (collectively, Applicants) tendered for filing an application requesting all necessary authorizations under section 203 of the Federal Power Act, 16 U.S.C. 824b, for Applicants to engage in the transfer from Sunbury to Duquesne of (1) an approximately 436 MW generating facility located in Snyder County, Pennsylvania, and (2) Sunbury's Rate Schedule FERC No. 2.

Applicants state that copies of this filing have been served on the Pennsylvania Public Utility Commission.

Comment Date: December 29, 2003.

2. New York Independent System Operator, Inc.; Dynegy Power Marketing, Inc.

[Docket No. EL03-26-001]

Take notice that on December 5, 2003, the New York Independent System Operator, Inc. (NYISO) and Dynegy Power Marketing, Inc. (Dynegy) are jointly submitting exhibits presented to the Arbitrator in American Arbitration Association proceeding no. 13 198 00247 02. The exhibits were not previously filed with the Commission.

NYISO and Dynegy state that certain information relating to the level of bids is confidential and therefore are requesting privileged treatment for portions of the Exhibits pursuant to 18 CFR 388.112.

Comment Date: December 19, 2003.

3. KES Kingsburg, L.P.

[Docket Nos. EL04-33-000 and QF86-155-004]

Take notice that on December 8, 2003, KES Kingsburg, L.P. (Kingsburg) filed in the above-referenced dockets a request for a temporary waiver of the efficiency standard for its qualifying cogeneration facility in Kingsburg, California (the Facility), pursuant to section 292.205(c) of the Commission's regulations. Kingsburg requests waiver for calendar year 2003 due to unforeseen mechanical failures within the Facility's steam turbine.

Comment Date: January 7, 2004.

4. City of Vernon, California

[Docket No. EL04-34-000]

Take notice that on December 8, 2003, the City of Vernon, California (Vernon) tendered for filing the annual update to its Transmission Revenue Balancing Account Adjustment (TRBA Adjustment) and to Appendix I of its Transmission Owner Tariff (TO Tariff), to reflect that update.

Vernon also states that pursuant to paragraph 1.4 of the Settlement approved in Docket No. EL02103, 102 FERC 61,141 (Feb. 5, 2003), Vernon is providing to the California Independent System Operator Corporation (ISO) on a confidential basis for ISO review and verification, and submitting to the Commission on a confidential basis under 18 CFR 388.112, a volume of certain confidential data. Vernon states that nonconfidential, redacted versions of this data are also being filed with the Commission and served.

Consistent with the ISO's FERC Electric Tariff, Vernon requests a January 1, 2004, effective date for its filing.

Vernon states that copies of this filing have been served on the California Independent System Operator Corporation and the seven other Participating Transmission Owners, as well as served upon all individuals on the service list in Commission Docket No. EL03-31.

Comment Date: December 29, 2003.

5. Tenaska Alabama II Partners, L.P.

[Docket No. ER01-137-001]

Take notice that on December 8, 2003, Tenaska Alabama II Partners, L.P. (Tenaska Alabama II) submitted for filing with the Federal Energy Regulatory Commission its triennial updated market analysis in accordance with Appendix B of the Commission's Order issued December 8, 2000, and certain revisions to its FERC Electric Tariff, Original Volume. No. 1 Tenaska Alabama II states that this filing includes incorporation of the Market Behavior Rules set forth in the Commission's November 17, 2003, Order in Docket Nos. EL01-118-000 and EL01-118-001, Investigation of Terms and Conditions of Public Utility Market-Based Rate Authorizations, 105 FERC ¶ 61,218 (2003).

Comment Date: December 29, 2003.

6. New York Independent System Operator, Inc.

[Docket No. ER01-3001-008]

Take notice that on December 1, 2003, the New York Independent System Operator, Inc. (NYISO) submitted a report which addresses: (1) The NYISO's existing demand response programs, the status of real-time demand response mechanisms, and the effects of demand response programs on wholesale prices; and (2) the status of new generation resources in the New York Control Area. This submittal represents the NYISO's fifth report in compliance with the Commission's October 25, 2001, Order.

The NYISO states it has served a copy of this filing upon all parties that have executed service agreements under the NYISO's Open Access Transmission Tariff and Market Administration and Control Area Services Tariff.

Comment Date: December 22, 2003.

7. Innovative Technical Services, L.L.C.

[Docket No. ER03-763-001]

Take notice that on December 3, 2003, Innovative Technical Services, L.L.C. (InTech-LLC) submitted a compliance filing to incorporate the market behavior rules adopted by the Commission on November 17, 2003, in Docket Nos. EL01-118-000 and EL01-118-001, into InTech-LLC's market based tariff.

Comment Date: December 29, 2003.

8. Midwest Independent Transmission System Operator, Inc.

[Docket No. ER03-1312-001]

Take notice that on December 8, 2003, the Midwest Independent Transmission System Operator, Inc. (Midwest ISO) filed information amending its September 8, 2003, filing, to revise the Midwest ISO's Open Access Transmission Tariff (OATT) by incorporating certain procedures relating to station power service. Midwest ISO states that the September 8, 2003 filing was made pursuant to section 205 of the Federal Power Act 16 U.S.C. 824(d), and part 35 of the regulations of the Federal Energy Regulatory Commission 18 CFR 35 et seq.

Comment Date: December 29, 2003.

9. White Pine Copper Refinery, Inc.

[Docket No. ER04-262-000]

Take notice that on December 5, 2003, White Pine Copper Refinery, Inc. (White Pine) filed with the Commission a Petition for acceptance of its initial rate schedule, FERC Electric Tariff, Original Volume No. 1, and request for authority to sell electric energy at market-based rates, certain blanket approvals, and waiver of certain Commission regulations. White Pine has requested waiver of the 60-day notice period in order to allow an effective date of December 5, 2003.

Comment Date: December 29, 2003.

10. Nordic Marketing of Massachusetts, L.L.C.

[Docket No. ER04-263-000]

Take notice that on December 5, 2003, Nordic Marketing of Massachusetts, L.L.C. petitioned the Commission to: Accept for filing its Rate Schedule FERC No. 1, which will permit it to sell electric energy and capacity to wholesale customers at market-based rates and permit transmission capacity reassignment; waive 60 days' notice and allow that rate schedule to become effective upon acceptance, but no later than February 3, 2004; and, grant such other waivers and blanket authorizations as have been granted to other power marketers.

Comment Date: December 29, 2003.

11. Nordic Marketing of Michigan L.L.C.

[Docket No. ER04-264-000]

Take notice that on December 5, 2003, Nordic Marketing of Michigan, L.L.C. petitioned the Commission to: accept for filing its Rate Schedule FERC No. 1, which will permit it to sell electric energy and capacity to wholesale customers at market-based rates and permit transmission capacity reassignment; waive 60 days' notice and allow that rate schedule to become effective upon acceptance, but no later than February 3, 2004; and, grant such other waivers and blanket authorizations as have been granted to other power marketers.

Comment Date: December 29, 2003.

12. Nordic Marketing of New York, L.L.C.

[Docket No. ER04-265-000]

Take notice that on December 5, 2003, Nordic Marketing of New York, L.L.C. petitioned the Commission to: Accept for filing its Rate Schedule FERC No. 1, which will permit it to sell electric energy and capacity to wholesale customers at market-based rates and permit transmission capacity reassignment; waive 60 days' notice and allow that rate schedule to become effective upon acceptance, but no later than February 3, 2004; and, grant such other waivers and blanket authorizations as have been granted to other power marketers.

Comment Date: December 29, 2003.

13. Central Vermont Public Service Corporation

[Docket No. ER04-266-000]

Take notice that on December 5, 2003, Central Vermont Public Service Corporation (Central Vermont) filed an executed version of Second Revised Service Agreement No. 15, a Network Integration Transmission Service Agreement and Network Operating Agreement (Revised Service Agreement) with Vermont Electric Cooperative, Inc. (VEC) under Central Vermont's FERC Electric Tariff, Second Revised Volume No. 7 (OATT).

Central Vermont states that copies of the filing were served upon the VEC and the Vermont Public Service Board.

Comment Date: December 29, 2003.

14. Pacific Gas and Electric Company

[Docket No. ER04-267-000]

Take notice that on December 11, 2003, Pacific Gas and Electric Company (PG&E) tendered for filing Generator Special Facilities Agreement (GSFA), and Generator Interconnection Agreement (GIA) and Letter Amendment Extensions between PG&E and Geysers Power Company, LLC (Geysers Power), and Notices of Termination of PG&E Rate Schedules FERC Nos. 204 and 205, as supplemented, and Notice of Termination of PG&E 2nd Revised Service Agreement No. 1 under FERC Electric Tariff, Sixth Revised Volume No. 5.

PG&E states that copies of this filing have been served upon Geysers Power, the California Independent System Operator Corporation and the California Public Utilities Commission.

Comment Date: December 29, 2003.

15. Duquesne Power, L.P.; Duquesne Light Co.; Monmouth Energy, Inc.; Metro Energy, L.L.C.; NM Colton Genco, L.L.C.; NM Mid-Valley Genco, L.L.C.; NM Milliken Genco, L.L.C.

[Docket Nos. ER04-268-000, ER98-4159-003, ER99-1293-002, ER01-2317-002, ER03-320-003, ER03-321-003, and ER03-322-003]

Take notice that on December 8, 2003, Duquesne Power, L.P., Duquesne Light Co., Monmouth Energy, Inc., Metro Energy, L.L.C., NM Colton Genco, L.L.C., NM Mid-Valley Genco, L.L.C., and NM Milliken Genco, L.L.C., tendered for filing a Notice of Change in Status and applications for certain waivers and authorizations under section 205 of the Federal Power Act.

Comment Date: December 29, 2003.

16. The Morenci Water and Electric Company

[Docket No. OA04-2-000]

Take notice that on December 5, 2003, The Morenci Water and Electric Company tendered for filing a request for a disclaimer of jurisdiction that it is not a public utility under the Federal Power Act and a waiver of the reciprocity requirement, or in the alternative, a waiver of the requirements of Order Nos. 888 and 889 and certain regulations.

Comment Date: January 5, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00609 Filed 12-22-03; 8:45 am]

BILLING CODE 6717-01-P